DEPARTMENT OF COMMERCE

National Oceanic and Atmospheric Administration

Agency Information Collection Activities; Submission to the Office of Management and Budget (OMB) for Review and Approval; Comment Request; NOAA Financial Assistance Performance Progress Reports

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. This notice pertains to a revision and extension of the approved collection of information for NOAA Financial Assistance Performance Progress Reports. Public comments were previously requested via the Federal Register on December 27, 2023 during a 60-day comment period. This notice allows for an additional 30 days for public comments.

Agency: National Oceanic & Atmospheric Administration (NOAA), Commerce.

Title: NOAA Financial Assistance Performance Progress Reports.

OMB Control Number: 0648-0718.

Form Number(s): None.

Type of Request: Regular submission. Revision and extension of a currently approved information collection.

Number of Respondents: 645.

Average Hours per Response: Marine Debris Program (MDP) Performance Progress Report: 8 hours; MDP Performance Progress Report Table: 0.25 hours; MDP Companion Tracker: 1 hour; MDP Additional Metrics Trackers: 3 hours; Coral Reef Conservation Program (CRCP) Semi-Annual Reports: 10 hours; Restoration Center (RC) Progress Report: Initial—9.5 hours; Semi-Annual—5.5 hours; and Final—9.75 hours; RC Administrative Progress Reports: Initial—6 hours; Semi-Annual—2.75 hours; and Final—5.5 hours.

Total Annual Burden Hours: 4,800.

Needs and Uses: This is a request for revision and extension to an approved collection of information under the Paperwork Reduction Act, 44 U.S.C. 3501 et seq., and implementing regulations at 5 CFR. Part 1320. This previously-approved information collection assists NOAA in the administration and evaluation of financial assistance awards made by the NOAA Marine Debris Program (MDP), NOAA Coral Reef Conservation Program (CRCP), and the NOAA Restoration Center (RC).

This revision, which is described in more detail below, is only applicable for the NOAA MDP financial assistance awards, and previous information collections for NOAA Coral Reef Conservation Program (CRCP) and NOAA Restoration Center (RC) remain unchanged. There are no changes to the NOAA CRCP or NOAA RC forms that were previously approved, including the RC Progress Reports (Initial, Semi-Annual, and Final), RC Administrative Progress Reports (Initial, Semi-Annual, and Final), and CRCP Semi-Annual Reports. However, the extension applies to the entire previously-approved information collection.

Every year, the NOAA MDP, the NOAA CRCP, and the NOAA RC each support a variety of initiatives specific to their individual authorizations and programmatic mandates. This support is made substantially through grants and cooperative agreements, the terms and conditions of which require regular progress reporting and communication of project accomplishments to the agency. This information collection identifies what is to be provided in these reports, and aims to assist recipients in fulfilling their responsibilities in meeting interim and final progress report requirements. This information is also necessary for NOAA to effectively oversee the expenditure of public funds awarded through these programs, to ensure both cost-effectiveness and programmatic goals are met.

The NOAA RC provides technical and financial assistance to identify, develop, implement, and evaluate community-driven habitat restoration projects. Awards are made as grants or cooperative agreements under the authority of the Magnuson-Stevens Fishery Conservation and Management Act of 2006, 16 U.S.C. 1891a and the Fish and Wildlife Coordination Act, 16 U.S.C. 661, as amended by the Reorganization Plan No. 4 of 1970.

The NOAA CRCP operates under authorization from the Coral Reef Conservation Act (CRCA) of 2000, 16 U.S.C. 6401 et seq. This act authorizes the NOAA CRCP to conserve, and restore the condition of United States coral reef ecosystems; to promote the science-based management and sustainable use of coral reef ecosystems to benefit local communities and the Nation; to develop sound scientific information on the condition of coral reef ecosystems and the threats to such ecosystems; to assist in the preservation of coral reefs by supporting science-based, consensus-driven, and community-based coral reef management; to provide financial resources, technical assistance, and scientific expertise to establish a formal mechanism for the collecting and allocating of monetary donations from the private sector to be used for coral reef conservation projects; to support rapid response to exigent circumstances that pose immediate and long-term threats to coral reefs; and to serve as a model for advancing international efforts to monitor, conserve, and restoral coral.

The NOAA MDP supports national and international efforts to research, prevent, and reduce the impacts of marine debris. The NOAA MDP is a centralized office within NOAA that coordinates and supports activities, both within the bureau and with other federal agencies that address marine debris and its impacts. In addition to inter-agency coordination, NOAA MDP uses partnerships with state and local agencies, tribes, non-governmental organizations, academia, and industry to investigate and solve the problems that stem from marine debris through removal, research, prevention, and reduction activities, in order to protect and conserve our nation's marine environment and coastal economies, and to ensure navigation safety. In large part, these partnerships are made through grants, cooperative agreements, contracts, MOUs, or are simply informal technical assistance arrangements.

The Marine Debris Research, Prevention, and Reduction Act authorizes NOAA MDP to enter into cooperative agreements and contracts and provide financial assistance in the form of grants to carry out the purposes of the Act—namely to identify, determine sources of, assess, reduce, and prevent marine debris and its adverse impacts on the marine environment and navigation safety. 33 U.S.C. 1951, 1952. To date, both competitive and non-competitive funding opportunities have been implemented by NOAA MDP to provide federal funding to non-federal applicants for activities to carry out the purposes of the Act.

The terms and conditions of MDP grants and cooperative agreements require regular progress reporting and communication of project accomplishments to the agency. Grant reporting is necessary for NOAA to effectively oversee the expenditure of public funds, and to ensure both the cost-effectiveness of funded projects and that programmatic goals are met.

This information collection revision clarifies agency reporting requirements, and aims to assist recipients in fulfilling their federal grant responsibilities. NOAA MDP proposes to revise and clarify grant performance progress report (PPR) instructions and add a table to the PPR that will be used for recipients whose activities span multiple states. NOAA MDP proposes to add the collection of performance measure information in a spreadsheet that captures required project metrics at a finer geographic resolution than would otherwise be possible using the PPR. NOAA MDP also proposes collection of additional metrics related to certain activities from large marine debris removals and pre- and post-removal habitat monitoring for grantees who perform these activities as part of their NOAA MDP award. The additional collection of project-level data, including project-level location and implementation data, aligns with the guidance provided in Memorandum M-22-12, Advancing Effective Stewardship of Taxpayer Resources and Outcomes in the Implementation of the Infrastructure Investment and Jobs Act (IIJA) in order to ensure robust and transparent reporting of IIJA investments.

Affected Public: Individuals or households; Business or other for-profit organizations; Not-for-profit institutions; State, Local, or Tribal government.

Frequency: Variable (quarterly to semi-annually).

Respondent's Obligation: Required to Obtain or Retain Benefits.

Legal Authority: The Marine Debris Research, Prevention, and Reduction Act (33 U.S.C. 1951 et seq.) as amended by the Marine Debris Act Amendments of 2012 (Pub. L. 112-213, Title VI, Sec. 603, 126 Stat. 1576, December 20, 2012), Save Our Seas Act of 2018 (Pub. L. 115-265), and Save Our Seas 2.0 Act of 2020 (Pub. L. 116-224); Magnuson-Stevens Fishery Conservation and Management Act of 2006, 16 U.S.C. 1891a and the Fish and Wildlife Coordination Act, 16 U.S.C. 661, as amended by the Reorganization Plan No. 4 of 1970; Coral Reef Conservation Act of 2000 (16 U.S.C. 6401 et seq.)

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0718. Do not submit Confidential Business Information or otherwise sensitive or protected information.

Sheleen Dumas,
Department PRA Clearance Officer, Office of the Under Secretary for Economic Affairs, Commerce Department.

[FR Doc. 2024-06599 Filed 3-27-24; 8:45 am]

BILLING CODE 3510-JS-P